DEPARTMENT OF ENERGY

Federal Energy Regulatory Commission

Combined Notice of Filings #1

Take notice that the Commission received the following exempt wholesale generator filings:

Docket Numbers: EG18-87-000.

Applicants: Pratt Wind, LLC.

Description: Notice of Self-Certification of Exempt Wholesale Generator Status of Pratt Wind, LLC.

Filed Date: 5/14/18.

Accession Number: 20180514-5991.

Comments Due: 5 p.m. ET 6/4/18.

Docket Numbers: EG18-88-000.

Applicants: Stoneray Power Partners, LLC.

Description: Notice of Self-Certification of Exempt Wholesale Generator Status of Stoneray Power Partners, LLC.

Filed Date: 5/14/18.

Accession Number: 20180514-6023.

Comments Due: 5 p.m. ET 6/4/18.

Docket Numbers: EG18-89-000.

Applicants: Copenhagen Wind Farm, LLC.

Description: Notice of Self-Certification of Exempt Wholesale Generator Status of Copenhagen Wind Farm, LLC.

Filed Date: 5/14/18.

Accession Number: 20180514-6033.

Comments Due: 5 p.m. ET 6/4/18.

Take notice that the Commission received the following electric rate filings:

Docket Numbers: ER18-1581-000.

Applicants: Tucson Electric Power Company.

Description: Compliance filing: Order No. 842 Compliance Filing to be effective 5/15/2018.

Filed Date: 5/14/18.

Accession Number: 20180514-5011.

Comments Due: 5 p.m. ET 6/4/18.

Docket Numbers: ER18-1582-000.

Applicants: UNS Electric, Inc.

Description: Compliance filing: Order No. 842 Compliance Filing to be effective 5/15/2018.

Filed Date: 5/14/18.

Accession Number: 20180514-5012.

Comments Due: 5 p.m. ET 6/4/18.

Docket Numbers: ER18-1584-000.

Applicants: Mississippi Power Company.

Description: Request for Waiver of MRA Cost Based Tariff Volume No. 1 for Period I of Mississippi Power Company.

Filed Date: 5/14/18.

Accession Number: 20180514-5999.

Comments Due: 5 p.m. ET 6/4/18.

Docket Numbers: ER18-1586-000.

Applicants: Midcontinent Independent System Operator, Inc.

Description: § 205(d) Rate Filing: 2018-05-14_SA 3114 Walnut Bend Solar-EAI GIA (J552) to be effective 4/30/2018.

Filed Date: 5/14/18.

Accession Number: 20180514-6017.

Comments Due: 5 p.m. ET 6/4/18.

Docket Numbers: ER18-1587-000.

Applicants: Tyr Energy, LLC.

Description: § 205(d) Rate Filing: Market-Based Rate Tariff Revisions to be effective 5/15/2018.

Filed Date: 5/14/18.

Accession Number: 20180514-6022.

Comments Due: 5 p.m. ET 6/4/18.

Docket Numbers: ER18-1589-000.

Applicants: Monongahela Power Company, PJM Interconnection, L.L.C.

Description: § 205(d) Rate Filing: Monongahela Power Company submits OIA SA No. 4717 to be effective 7/13/2018.

Filed Date: 5/14/18.

Accession Number: 20180514-6041.

Comments Due: 5 p.m. ET 6/4/18.

Docket Numbers: ER18-1590-000.

Applicants: Southwest Power Pool, Inc.

Description: § 205(d) Rate Filing: Revisions to Extend Tariff Administration between SPP and SPA through 07/31/2018 to be effective 4/1/2018.

Filed Date: 5/14/18.

Accession Number: 20180514-6042.

Comments Due: 5 p.m. ET 6/4/18.

Docket Numbers: ER18-1592-000.

Applicants: West Penn Power Company, PJM Interconnection, L.L.C.

Description: § 205(d) Rate Filing: West Penn Power Company submits OIA SA No. 4976 to be effective 7/13/2018.

Filed Date: 5/14/18.

Accession Number: 20180514-6046.

Comments Due: 5 p.m. ET 6/4/18.

Docket Numbers: ER18-1593-000.

Applicants: Avista Corporation.

Description: Compliance filing: Avista Corp OATT Order 842 Compliance Filing to be effective 5/15/2018.

Filed Date: 5/14/18.

Accession Number: 20180514-6049.

Comments Due: 5 p.m. ET 6/4/18.

Docket Numbers: ER18-1594-000.

Applicants: Public Service Company of Colorado.

Description: Compliance filing: OATT—Order No. 842 Compliance—LGIP-SGIP to be effective 5/15/2018.

Filed Date: 5/14/18.

Accession Number: 20180514-6069.

Comments Due: 5 p.m. ET 6/4/18.

Docket Numbers: ER18-1597-000.

Applicants: PJM Interconnection, L.L.C.

Description: § 205(d) Rate Filing: Original ISA, SA No. 5072; Queue No. AB2-129 to be effective 4/16/2018.

Filed Date: 5/14/18.

Accession Number: 20180514-6094.

Comments Due: 5 p.m. ET 6/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2018.
Nathaniel J. Davis, Sr.,
Deputy Secretary.

[FR Doc. 2018-10612 Filed 5-17-18; 8:45 am]

BILLING CODE 6717-01-P